DEPARTMENT OF DEFENSE

Office of the Secretary

Privacy Act of 1974; System of Records

AGENCY: Office of the Secretary, DoD.

ACTION: Notice to alter a system of records.

SUMMARY: The Office of the Secretary is proposing to alter an existing system of records in its inventory of record systems subject to the Privacy Act of 1974 (5 U.S.C. 552a), as amended.

DATES: The changes will be effective on August 22, 2003 unless comments are received that would result in a contrary determination.

ADDRESSES: Send comments to OSD Privacy Act Coordinator, Records Management Section, Washington Headquarters Services, 1155 Defense Pentagon, Washington, DC 20301-1155.

FOR FURTHER INFORMATION CONTACT: Mr. Dan Cragg at (703) 601-4722.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on July 9, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: July 15, 2003.
Patricia L. Toppings,
Alternate OSD Federal Register Liaison Officer, Department of Defense.

DPAD 12.0

System name:

DoD National Media Pool and Pentagon Correspondent Files (December 17, 2001, 66 FR 64960).

Changes

System name:

Delete ‘National’ from entry.

* * * * *

Categories of individuals covered by the system:

Delete ‘National’ from entry.

* * * * *

Categories of records in the system:

Delete ‘National’ from entry. Add to first paragraph ‘No fault (“hold harmless”) legal contracts between DoD and media organizations as well as no-fault legal contracts between DoD and individual media representatives. Ground-rule agreements between DoD and individuals covering personal conduct before and during event. Certificates of background security clearance.’

* * * * *

Retention and disposal:

Disposition pending. Until the National Archives and Records Administration has approved the retention and disposition of these records, treat records as permanent.

* * * * *

DPAD 12.0

System name:

DoD Media Pool and Pentagon Correspondent Files.

System location:

Office of the Assistant Secretary of Defense (Public Affairs), Directorate for Plans, Room 2D757, 1400 Defense Pentagon, Washington, DC 20301-1400 for Media Pool records.

Office of the Assistant Secretary of Defense (Public Affairs), Directorate of Defense Information, 1400 Defense Pentagon, Room 2E765, Washington, DC 20301-1400 for the Pentagon Correspondent records.

Categories of individuals covered by the system:

Civilian media representatives nominated by their respective bureaus to be members of the DoD Media Pool.

Pentagon correspondents who may conduct interviews with Pentagon executive level personnel.

Categories of records in the system:

DoD Media Pool files consist of accreditation and other questionnaires and forms soliciting the media representative’s name, age, nationality, Social Security Number, office and home addresses and phone numbers, passport information, medical information, and person to be notified in an emergency effecting individual. No fault (“hold harmless”) legal contracts between DoD and media organizations as well as no-fault legal contracts between DoD and individual media representatives. Ground-rule agreements between DoD and individuals covering personal conduct before and during event. Certificates of background security clearance.

Pentagon correspondent files consist of their photographs and biographies.

Authority for maintenance of the system:

5 U.S.C. 301, Departmental Regulations; 10 U.S.C. 138, Assistant Secretaries of Defense; and E.O. 9397 (SSN).

Purpose(s):

Media Pool Files are used to issue Pentagon building passes, Media Pool Press Passes, orders, to arrange foreign country clearances and visas, and to determine individual's suitability/preparedness for deployment with the media pool.

Pentagon correspondent records are used by Pentagon executive level personnel to provide a brief summary of the correspondent's professional experience and background.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of OSD's compilation of systems of records notices apply to this system.

Policies and practices for storing, retrieving, accessing, retaining, and disposing of records in the system:

Storage:

Paper records in file folders and computerized electronic records.

Retrievability:

Paper records are retrieved by individual's last name, Social Security Number, bureau, or organization. Electronic records are retrieved by last name, Social Security Number, and/or news organization.

Safeguards:

Records are accessed by authorized personnel with an official need-to-know who have been trained for handling Privacy Act information. Electronic records are accessible only by the Directorate of Defense Information administrative staff.

Retention and disposal:

Disposition pending. Until the National Archives and Records Administration has approved the retention and disposition of these records, treat records as permanent.

System manager(s) and address:

For DoD Media Pool files: Office of the Assistant Secretary of Defense (Public Affairs), Directorate for plans, Room 2D757, 1400 Defense Pentagon, Washington, DC 20301-1400.

For Pentagon Correspondent files:

Deputy Director, Directorate for Defense Information, Office of the Assistant Secretary of Defense (Public Affairs), 1400 Defense Pentagon, Room 2E765, Washington, DC 20301-1400.

Notification procedure:

Individuals seeking to determine whether information about themselves is contained in this system should address written inquiries to the appropriate System manager above.

The request should contain individual's full name, individual's Social Security Number, and bureau or organization where employed.

Record access procedures:

Individuals seeking access to information about themselves contained in this system should address written inquiries to the appropriate System manager above.

The request should contain individual's full name, individual's Social Security Number, and bureau or organization where employed.

Contesting record procedures:

The OSD rules for accessing records, for contesting contents and appealing initial agency determinations are published in OSD Administrative Instruction 81; 32 CFR part 311; or may be obtained from the system manager.

Record source categories:

Accreditation and other questionnaires and forms completed or provided by the individual and information provided by the individual's employer or bureau.

Exemptions claimed for the system:

None.

[FR Doc. 03-18645 Filed 7-22-03; 8:45 am]

BILLING CODE 5001-08-P